DEPARTMENT OF THE INTERIOR

National Park Service

[NPS-WASO-NAGPRA-NPS0026234; PPWOCRADN0-PCU00RP14.R50000]

Notice of Inventory Completion: State Historical Society of North Dakota, Bismarck, ND

AGENCY: National Park Service, Interior.

ACTION: Notice.

SUMMARY: The State Historical Society of North Dakota has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the State Historical Society of North Dakota. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the State Historical Society of North Dakota at the address in this notice by October 10, 2018.

ADDRESSES: Wendi Field Murray, State Historical Society of North Dakota, 612 East Boulevard Avenue, Bismarck, ND 58505, telephone (701) 328-3506, email wmurray@nd.gov.

SUPPLEMENTARY INFORMATION: Notice is here given in accordance with the Native American Graves Protection and Repatriation Act (NAGPRA), 25 U.S.C. 3003, of the completion of an inventory of human remains and associated funerary objects under the control of the State Historical Society of North Dakota, Bismarck, ND. The human remains and associated funerary objects were removed from an unknown location in western North Dakota.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by the State Historical Society of North Dakota professional staff in consultation with representatives of the Crow Tribe of Montana; Lower Sioux Indian Community in the State of Minnesota; Northern Cheyenne Tribe of the Northern Cheyenne Indian Reservation, Montana; Sisseton-Wahpeton Oyate of the Lake Traverse Reservation, South Dakota; Spirit Lake Tribe, North Dakota; Standing Rock Sioux Tribe of North & South Dakota; Three Affiliated Tribes of the Fort Berthold Indian Reservation, North Dakota; Turtle Mountain Band of Chippewa Indians of North Dakota; and Upper Sioux Community, Minnesota. The Assiniboine and Sioux Tribes of the Fort Peck Indian Reservation, Montana was invited to consult but did not participate. Hereafter all tribes listed in this section are referred to as “The Consulted and Notified Tribes.”

History and Description of the Remains

Sometime before 1931, human remains representing, at minimum, one individual were removed from the ground surface in an unknown location in western North Dakota. According to museum records, the human remains were collected by Dr. James Grassick of North Dakota, and were donated to the museum in October 1931. No known individuals were identified. The one associated funerary object is one metal projectile point, which was embedded in the human remains.

Determinations Made by the State Historical Society of North Dakota

Officials of the State Historical Society of North Dakota have determined that:

• Pursuant to 25 U.S.C. 3001(9), the human remains described in this notice are Native American based on the donor's collecting history.

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony and was embedded in the human remains either before or after the individual's death.

• Pursuant to 25 U.S.C. 3001(2), a relationship of shared group identity cannot be reasonably traced between the Native American human remains and associated funerary objects and any present-day Indian Tribe.

• Treaties, Acts of Congress, or Executive Orders, indicate that the land from which the Native American human remains and associated funerary objects were removed is the aboriginal land of the Lower Sioux Indian Community in the State of Minnesota; Sisseton-Wahpeton Oyate of the Lake Traverse Reservation, South Dakota; Spirit Lake Tribe, North Dakota; Standing Rock Sioux Tribe of North & South Dakota; Three Affiliated Tribes of the Fort Berthold Indian Reservation, North Dakota; Turtle Mountain Band of Chippewa Indians of North Dakota; and the Upper Sioux Community, Minnesota.

• Pursuant to 43 CFR 10.11(c)(1), the disposition of the human remains and associated funerary objects may be to of the Lower Sioux Indian Community in the State of Minnesota; Sisseton-Wahpeton Oyate of the Lake Traverse Reservation, South Dakota; Spirit Lake Tribe, North Dakota; Standing Rock Sioux Tribe of North & South Dakota; Three Affiliated Tribes of the Fort Berthold Indian Reservation, North Dakota; Turtle Mountain Band of Chippewa Indians of North Dakota; and the Upper Sioux Community, Minnesota.

Additional Requestors and Disposition

Representatives of any Indian Tribe or Native Hawaiian organization not identified in this notice that wish to request transfer of control of these human remains and associated funerary objects should submit a written request with information in support of the request to Wendi Field Murray, State Historical Society of North Dakota, 612 East Boulevard Avenue, Bismarck, ND 58505, telephone (701) 325-3506, email wmurray@nd.gov, by October 10, 2018. After that date, if no additional requestors have come forward, transfer of control of the human remains and associated funerary objects to the Lower Sioux Indian Community in the State of Minnesota; Sisseton-Wahpeton Oyate of the Lake Traverse Reservation, South Dakota; Spirit Lake Tribe, North Dakota; Standing Rock Sioux Tribe of North & South Dakota; Three Affiliated Tribes of the Fort Berthold Indian Reservation, North Dakota; Turtle Mountain Band of Chippewa Indians of North Dakota; and the Upper Sioux Community, Minnesota may proceed.

The State Historical Society of North Dakota is responsible for notifying The Consulted and Notified Tribes that this notice has been published.

Dated: August 9, 2018.
Melanie O'Brien,
Manager, National NAGPRA Program.

[FR Doc. 2018-19543 Filed 9-7-18; 8:45 am]

BILLING CODE 4312-52-P